DEPARTMENT OF VETERANS AFFAIRS

[OMB Control No. 2900-0600]

Agency Information Collection Activities Under OMB Review

AGENCY: Veterans Health Administration, Department of Veterans Affairs.

ACTION: Notice.

SUMMARY: In compliance with the Paperwork Reduction Act (PRA) of 1995 (44 U.S.C., 3501 et seq.), this notice announces that the Veterans Health Administration (VHA), Department of Veterans Affairs, has submitted the collection of information abstracted below to the Office of Management and Budget (OMB) for review and comment. The PRA submission describes the nature of the information collection and its expected cost and burden; it includes the actual data collection instrument.

DATES: Comments must be submitted on or before May 29, 2001.

FOR FURTHER INFORMATION OR A COPY OF THE SUBMISSION CONTACT: Denise McLamb, Information Management Service (045A4), Department of Veterans Affairs, 810 Vermont Avenue, NW., Washington, DC 20420, (202) 273-8030 or FAX (202) 273-5981 or e-mail denise.mclamb@mail.va.gov. Please refer to “OMB Control No. 2900-0600.”

SUPPLEMENTARY INFORMATION: Title: Regulation for Reconsideration of Denied Claims (Title 38 CFR 17.33).

OMB Control Number: 2900-0600.

Type of Review: Reinstatement, without change, of a previously approved collection for which approval has expired.

Abstract: The purpose of this data collection is to provide a vehicle for veterans to request an informal review of their denied claims. Veterans whose applications for healthcare benefits have been denied will initiate these requests. The data submitted by denied applicants will be reviewed by hospital administrative personnel to ensure the correctness of the decision to deny.

An agency may not conduct or sponsor, and a person is not required to respond to a collection of information unless it displays a currently valid OMB control number. The Federal Register notice with a 60-day comment period soliciting comments on this collection of information was published on February 15, 2001, at pages 10565-10566.

Affected Public: Individuals or households.

Estimated Annual Burden: 25,413 hours.

Estimated Average Burden Per Respondent: 15 minutes.

Frequency of Response: On occasion.

Estimated Number of Respondents: 101,652.

Send comments and recommendations concerning any aspect of the information collection to VA's OMB Desk Officer, OMB Human Resources and Housing Branch, New Executive Office Building, Room 10235, Washington, DC 20503, (202) 395-7316. Please refer to “OMB Control No. 2900-0600” in any correspondence.

Dated: April 16, 2001.
By direction of the Secretary.
Donald L. Neilson,
Director, Information Management Service.

[FR Doc. 01-10381 Filed 4-25-01; 8:45 am]

BILLING CODE 8320-01-P